DEPARTMENT OF THE INTERIOR

Office of Surface Mining Reclamation and Enforcement

Notice of Proposed Information Collection for 1029-0091 and 1029-0118

AGENCY: Office of Surface Mining Reclamation and Enforcement.

ACTION: Notice and request for comments.

SUMMARY: In compliance with the Paperwork Reduction Act of 1995, the Office of Surface Mining Reclamation and Enforcement (OSM) is announcing that the information collection requests for the titles described below have been forwarded to the Office of Management and Budget (OMB) for review and comment. The information collection requests describe the nature of the information collections and the expected burden and cost for 30 CFR parts 750 and 842.

DATES: OMB has up to 60 days to approve or disapprove the information collections but may respond after 30 days. Therefore, public comments should be submitted to OMB by June 16, 2008, in order to be assured of consideration.

FOR FURTHER INFORMATION CONTACT: To request a copy of either information collection request, explanatory information and related form, contact John A. Trelease at (202) 208-2783, or electronically to jtrelease@osmre.gov.

ADDRESSES: Submit comments to the Office of Information and Regulatory Affairs, Office of Management and Budget, Attention: Department of Interior Desk Officer, by telefax at (202) 395-6566 or via e-mail to OIRA_Docket@omb.eop.gov. Also, please send a copy of your comments to John Trelease, Office of Surface Mining Reclamation and Enforcement, 1951 Constitution Ave, NW., Room 202 - SIB, Washington, DC 20240, or electronically to jtrelease@osmre.gov.

SUPPLEMENTARY INFORMATION: OMB regulations at 5 CFR 1320, which implement provisions of the Paperwork Reduction Act of 1995 (Pub. L. 104-13), require that interested members of the public and affected agencies have an opportunity to comment on information collection and recordkeeping activities [see 5 CFR 1320.8(d)]. OSM has submitted two requests to OMB to renew its approval of the collections of information contained in 30 CFR part 750, Requirements for surface coal mining and reclamation operations on Indian Lands; and 30 CFR part 842, Federal inspections and monitoring. OSM is requesting a 3-year term of approval for each information collection activity.

An agency may not conduct or sponsor, and a person is not required to respond to, a collection of information unless it displays a currently valid OMB control number. The OMB control numbers for these collections of information are 1029-0091 for part 750, and 1029-0118 for part 842.

As required under 5 CFR 1320.8(d), a Federal Register notice soliciting comments for these collections of information was published on February 1, 2008 (73 FR 6203). No comments were received. This notice provides the public with an additional 30 days in which to comment on the following information collection activities:

Title: Requirements for surface coal mining and reclamation operations on Indian Lands—30 CFR part 750.

OMB Control Number: 1029-0091.

Summary: Surface coal mining permit applicants who conduct or propose to conduct surface coal mining and reclamation operations on Indian lands must comply with the requirements of 30 CFR 750 pursuant to section 710 of SMCRA. Applicants are required to respondent to obtain a benefit.

Bureau Form Number: None.

Frequency of Collection: Once.

Description of Respondents: Applicants for coal mining permits.

Total Annual Responses: One new permit/significant revision annually.

Total Annual Burden Hours: 1,300 hours annually.

Total Annual Non-wage Costs: $15,000 for filings fees for each new permits/significant revision.

Title: 30 CFR part 842—Federal inspections and monitoring.

OMB Control Number: 1029-0118.

Summary: For purposes of information collection, this part establishes the procedures for any person to notify the Office of Surface Mining in writing of any violation that may exist at a surface coal mining operation. The information will be used to investigate potential violations of the Act or applicable State regulations. Response is required to request an inspection.

Bureau Form: How to request a state or federal inspection of a coal mine (no form number).

Frequency of Collection: Once.

Description of Respondents: Citizens and State regulatory authorities.

Total Annual Responses: 44.

Total Annual Burden Hours: 451.

Total Annual Non-wage Costs: $0.

Send comments on the need for the collection of information for the performance of the functions of the agency; the accuracy of the agency's burden estimates; ways to enhance the quality, utility and clarity of the information collection; and ways to minimize the information collection burden on respondents, such as use of automated means of collection of the information, to the addresses listed under ADDRESSES. Please refer to the appropriate OMB control numbers in your correspondence.

Before including your address, phone number, e-mail address, or other personal identifying information in your comment, you should be aware that your entire comment—including your personal identifying information—may be made publicly available at any time. While you can ask us in your comment to withhold your personal identifying information from public review, we cannot guarantee that we will be able to do so.

Dated: May 8, 2008.
John R. Craynon,
Chief, Division of Regulatory Support.

[FR Doc. E8-10641 Filed 5-15-08; 8:45 am]

BILLING CODE 4310-05-M